DEPARTMENT OF LABOR

Employment and Training Administration

[TA-W-65,549]

Maverick Tube LLC, D/B/A TEXAS ARAI; Houston, TX; Notice of Termination of Investigation

Pursuant to Section 221 of the Trade Act of 1974, as amended, an investigation was initiated on March 11, 2009 in response to a petition filed by a company official on behalf of workers of Maverick Tube LLC, D/B/A Texas Arai, Houston, Texas.

The petitioner has requested that the petition be withdrawn. Consequently, the investigation has been terminated.

Signed at Washington, DC, this 1st day of April 2009.
Linda G. Poole,
Certifying Officer, Division of Trade Adjustment Assistance.

[FR Doc. E9-10585 Filed 5-6-09; 8:45 am]

BILLING CODE 4510-FN-P